DEPARTMENT OF COMMERCE

National Institute of Standards and Technology

[Docket No.: 020503108-2108-01]

Notice of Intent To Update Existing Electron Ionization Mass Spectral Library

AGENCY: National Institute of Standards and Technology, Commerce.

ACTION: Notice and request for comments.

SUMMARY: The National Institute of Standards and Technology announces its intent to update its electron ionization mass spectral library. The update will increase the number of spectra from 130,000 to approximately 175,000. Interested parties are invited to submit comments to the address below.

DATES: Comments must be received by June 24, 2002.

ADDRESSES: Comments should be sent to the attention of Dr. Stephen Stein at the National Institute of Standards and Technology, Mail Stop 8380, 100 Bureau Drive, Gaithersburg, MD, 20899-8520.

FOR FURTHER INFORMATION CONTACT: Dr. Stephen Stein by writing to the above address or by e-mail at stephen.stein@nist.gov or by telephone at (301) 975-2444.

SUPPLEMENTARY INFORMATION: As part of its responsibilities under Title 15 U.S.C. 290 to collect, evaluate and publish high quality Standard Reference Data (SRD), NIST creates and maintains evaluated SRD databases. One such database is the Mass Spectral Database which is an evaluated data collection containing electron ionization mass spectra for discrete chemical substances. The database is primarily used to aid in the identification of chemical compounds by providing a source for reference spectra for comparison to spectra acquired by commercial instruments, especially spectra generated by gas chromatography/mass spectrometry. For each spectrum, auxiliary information for chemical identification is provided, including chemical names, formulas, chemical structures and related information. The planned update will increase the number of spectra from 130,000 to approximately 175,000 spectra, representing a wide variety of substances. The updated spectra will provide wider coverage of compounds and a higher level of accuracy. This will increase the confidence of users of the library in identifying chemical substances. We invite comments concerning this update

Dated: May 20, 2002.
Karen H. Brown,
Deputy Director.

[FR Doc. 02-13167 Filed 5-23-02; 8:45 am]

BILLING CODE 3510-13-P